DEPARTMENT OF VETERANS AFFAIRS

Advisory Committee on Homeless Veterans, Notice of Meeting Amendment

The Department of Veterans Affairs (VA) gives notice under the Federal Advisory Committee Act, 5 U.S.C. App. 2, that the Advisory Committee on Homeless Veterans meeting on September 11-13, 2013, in the William Phillip King room at The Emily Morgan Hotel, 705 East Houston Street, San Antonio, TX, has been rescheduled as a teleconference call meeting on September 11, 2013, from 1 p.m. to 4 p.m., in Room 921 at 1722 Eye Street NW., Washington, DC. The toll free number for the meeting is 1-800-767-1750 and the access code is 40653#. The meeting is open to the public.

The purpose of the Committee is to provide the Secretary of Veterans Affairs with an on-going assessment of the effectiveness of the policies, organizational structures, and services of the Department in assisting homeless Veterans. The Committee shall assemble and review information relating to the needs of homeless Veterans and provide on-going advice on the most appropriate means of providing assistance to homeless Veterans. The Committee will make recommendations to the Secretary regarding such activities.

The Committee will receive briefings from VA and other officials regarding services for homeless Veterans. No time will be allocated for receiving oral presentations from the public. Interested parties should provide written comments on issues affecting homeless Veterans for review by the Committee to Mr. Vince Kane, Designated Federal Officer, Homeless Veterans Initiative Office (075D), Department of Veterans Affairs, 1722 Eye Street NW., Washington, DC 20006, or email to vince.kane@va.gov. Individuals who wish to attend the meeting or want additional information should contact Mr. Kane at (202) 461-1857.

Dated: September 5, 2013.
By Direction of the Secretary.
Vivian Drake,
Committee Management Officer.

[FR Doc. 2013-21986 Filed 9-9-13; 8:45 am]

BILLING CODE P